DEPARTMENT OF ENERGY

Notice of Availability of Tribal Allocation Formula for the Tribal Home Electrification and Appliance Rebates Programs

AGENCY: Office of State and Community Energy Programs, Department of Energy.

ACTION: Notice of availability; request for comment.

SUMMARY: The Department of Energy (DOE or the Department) is publishing its intended allocation formula that will be used to distribute funds to Indian Tribes through the $225 million Tribal Home Electrification and Appliance Rebates program. The purpose of the Tribal Home Electrification and Appliance Rebates program is to help Tribal households to reduce energy bills, increase home comfort, improve indoor air quality, and reduce emissions by providing direct funding for energy efficiency and electrification home upgrades. This notice provides the tentative allocation formula developed by the Department to distribute funds to Tribes, as well as the allocation amounts and data used to calculate allocations. This notice also describes how Tribes may partner with other Tribes through consortia to submit a single application to DOE, and how Tribes may authorize a third-party agent to handle the application and administration of a grant award.

DATES: DOE is accepting public comment through September 15, 2023. Comments must be sent to irahomerebates@hq.doe.gov by midnight EST, September 15, 2023.

ADDRESSES: Interested parties are to submit comments electronically to irahomerebates@hq.doe.gov and include the subject line “Comment on FRN for Tribal Rebates.”

FOR FURTHER INFORMATION CONTACT: Mr. Adam Hasz, U.S. Department of Energy, Office of State and Community Energy Programs, Home Energy Rebates program, SCEP-50, 1000 Independence Avenue SW, Washington, DC 20585-0121. Telephone: (202) 617-9081. Email: irahomerebates@hq.doe.gov. Electronic communications are recommended for correspondence.

SUPPLEMENTARY INFORMATION:

I. Introduction

DOE is publishing its intended allocation formula for the Tribal Home Electrification and Appliance Rebates program. Through the Inflation Reduction Act (IRA), Public Law 117-169, section 50122,¹ Congress appropriated $225 million to DOE “to award grants to Indian Tribes to develop and implement a high-efficiency electric home rebate program . . . to remain available through September 30, 2031.” ² Congress also authorized DOE to utilize 3% of the appropriated funds for program administration and technical assistance, which then provides $218.25 million to be awarded as grants directly to Indian Tribes to develop and implement Tribal rebates programs.³ Through these grants, Indian Tribes may establish rebates programs to help reduce the upfront cost of efficient electric appliances and other accompanying home energy upgrades in single-family and multi-family homes. As all Federally Recognized Tribes and Tribal entities are Justice40 communities, whether or not they have land, this program also advances the President's historic Justice40 Initiative, established by Executive Order 14008, which set the goal that 40% of the overall benefits of certain Federal investments, such as in climate, clean energy and other areas, flow to disadvantaged or Justice40 communities.⁴

¹ Codified at 42 U.S.C. 18795a. For more information about the high-efficiency electric home rebate program, commonly referred to as the “Home Electrification and Appliance Rebates Program”, please visit www.energy.gov/scep/tribal-home-energy-rebates.

² 42 U.S.C. 18795a(a)(1)(B).

³ 42 U.S.C. 18795a(a)(3).

⁴ E.O. 14008, Tackling the Climate Crisis at Home and Abroad, 86 FR 7619 (Feb. 1, 2021).

While DOE is still developing the program requirements for the Tribal Home Electrification and Appliance Rebates program, DOE intends that this tentative formula and the accompanying information regarding the application process will help Indian Tribes to begin planning collaboratively with Tribally Designated Housing Entities (TDHEs), regional Tribal organizations, Tribal utilities, State Energy Offices, and other important Tribal partner organizations in advance of the release of the program requirements in late 2023.

This notice describes the intended allocation formula that DOE intends to use when issuing Tribal rebates program grant funds to Indian Tribes.⁵ The allocation formula described in this notice take into consideration feedback provided by Indian Tribes during a Tribal Consultation DOE hosted in March 2023. DOE also consulted with Tribal housing organizations, other Tribal entities and partners, and other federal agencies with Tribal housing programs as it considered options for this formula.

⁵ For this program, the term “Indian Tribe” has the meaning given the term in section 5304 of title 25. 42 U.S.C. 18795a(d)(3).

Appendix A provides the mathematical formula DOE plans to use to allocate funding amounts for each Tribe for the Tribal Home Electrification and Appliance Rebates program. Appendix B contains the data sources used by the formula to determine the allocations. Appendix C contains a table with the intended formula allocations for Indian Tribes.

DOE requests feedback on all topics discussed in this notice.

II. Tribal Home Electrification and Appliance Rebates Program Allocation Formula

Section 50122(a)(2)(B) of the IRA directs DOE to “reserve funds made available [for Indian Tribes] . . . in a manner determined appropriate by the Secretary.” ⁶ Through this direction, DOE set several goals for its planned Tribal Home Electrification and Appliance Rebates program allocation formulation based on feedback received during its Tribal Consultation and request for information submissions.⁷ This notice describes these goals and the corresponding allocation formula components.

⁶ 42 U.S.C. 18795a(a)(2)(B). Grant awards are to be distributed to an Indian Tribe if the application is approved.

⁷ The DOE Home Energy Rebates Request for Information is available at https://eere-exchange.energy.gov/Default.aspx?utm_medium=email&utm_source=govdelivery#FoaId01172e95-5645-4356-8f3b-96fd144f9213.

First, DOE intends to provide an allocation to every Indian Tribe that wants to administer a home electrification and appliance rebates program. To achieve this goal, the formula must provide sufficient funding so that small and under-resourced Tribes can successfully administer rebate programs. While small Tribes often lack existing staff capacity, Tribes may utilize 20% of their grant to cover administrative expenses to help address this issue. DOE intends for the minimum award to each Tribe to provide a meaningful amount of funding for administrative costs, particularly if small Tribes choose to apply via a consortium as described in Section III of this Federal Register Notice. To meet this goal, DOE intends to set the minimum allocation per Tribe at $150,000; this amount will provide each Tribe with a minimum of $30,000 for administrative expenses. This minimum funding will also ensure that each Tribe can provide upgrades for at least eight households at the maximum rebate level of $14,000.

Second, DOE intends to distribute Tribal rebates program grant funds based on Tribal housing and energy upgrade needs. DOE evaluated several potential datasets for housing and energy upgrade needs, but unfortunately most datasets lacked detailed information on housing conditions and energy burden or did not provide full data for all Tribal nations. The best available dataset to describe Tribal housing upgrade needs is the formula data used by the Department of Housing and Urban Development to allocate funding for its Indian Housing Block Grant (IHBG) program.⁸ DOE intends to adopt the IHBG formula by using the proportion that each Tribe received out of the total allocations for IHBG grants in FY2023. Specifically, DOE will use the “Unadjusted FY 2023 Allocation” data from the FY 2023 IHBG Final Summary sheet.⁹ The Unadjusted FY 2023 Allocation data sums two components from the IHBG formula, the “Need” component and the “Formula Current Assisted Stock” component, with small additional adjustments as required by IHBG regulations.¹⁰ The IHBG formula's “Need” component uses datapoints on housing cost burden, households lacking kitchens or plumbing, low-income housing shortages, low-income Tribal households, and local American Indian and Alaska Native population within the Tribe's IHBG formula area.¹¹ The IHBG formula's “Formula Current Assisted Stock” component is a factor that incorporates the number of subsidized housing units that are directly managed by the Tribe prior to the enactment of the Native American Housing Assistance and Self-Determination Act of 1996, as amended, (NAHASDA), Public Law 104-330.¹² Because the “Need” component captures various current housing needs variables, and the “Formula Current Assisted Stock” component captures operation and modernization costs of Tribal housing developed pre-NAHASDA, DOE believes that together they may serve as a reasonable proxy of Tribal need for the home electrification and appliance rebates. DOE notes that the IHBG formula was developed through a negotiated rulemaking process. HUD and Tribal leaders and housing professionals representing geographically diverse small, medium, and large Indian Tribes used a unanimous consensus decision-making process to develop the formula. DOE also notes that under the IHBG formula regulations, Indian Tribes are authorized to challenge formula data used in any given year should they feel that the data does not accurately reflect their housing needs.¹³

⁸ The IHBG program website is available at www.hud.gov/program_offices/public_indian_housing/ih/grants/ihbg.

⁹ The “Unadjusted FY 2023 Allocation” is found in Column T of the IHBG FY 2023 Final Summary Sheets, available at https://view.officeapps.live.com/op/view.aspx?src=https%3A%2F%2Fwww.hud.gov%2Fsites%2Fdfiles%2FPIH%2Fdocuments%2FFY_2023_Final_Summary_Sheets.xlsx&wdOrigin=BROWSELINK.

¹⁰ The full regulations governing the IHBG formula are available at www.ecfr.gov/current/title-24/subtitle-B/chapter-IX/part-1000/subpart-D.

¹¹ See 24 CFR 1000.324 for more information on this requirement.

¹² See 24 CFR 1000.316 for more information on the “Formula Current Assisted Stock” component.

¹³ See 24 CFR 1000.336 for more information on the annual HUD challenge process data used in the IHBG formula.

Third, DOE intends to distribute Tribal rebates program grant funds in an equitable manner that avoids the double-counting of the need of Tribal households with overlapping membership at multiple Tribal levels. For example, in the case of Indian Tribes in Alaska, a Tribal citizen may simultaneously be a member of an Alaska Native Village, Alaska Native Village Corporation, and Alaska Native Regional Corporation. To avoid double-counting, DOE plans to provide funding through the method utilized by the IHBG formula, which credits data on local American Indian and Alaska Native (AIAN) population and housing needs for the “Need” formula to the Alaska Native Village. Because each Alaska Native Village Corporation has no “Need” data, it does not receive a formula allocation from the IHBG program. If “Need” data exists that is outside of the area of jurisdiction of the Alaska Native Village, HUD credits data on AIAN population and housing needs outside the Alaska Native Village area to the regional Indian Tribe, and if there is no regional Indian Tribe, to the Alaska Native Regional Corporation for the area.¹⁴

¹⁴ The HUD regulations for the “Need” component of the IHBG formula for Alaska Native Villages, Native Village Corporations, Regional Tribes, and Native Regional Corporations is available at www.ecfr.gov/current/title-24/subtitle-B/chapter-IX/part-1000/subpart-D/section-1000.327.

Formula Factors. The Tribal allocation formula DOE intends to implement for the Tribal Home Electrification and Appliance Rebate Program will use the following factors:

• Minimum Allocation of $150,000 per Indian Tribe.

• The relative share of the funding an Indian Tribe would receive from the IHBG formula, calculated by using the Tribe's “Unadjusted FY 2023 Allocation” divided the sum total of the “Unadjusted FY 2023 Allocation” components for all Tribes.

Funding Allocation Design: DOE's formula establishes a minimum level of funding of $150,000 per Indian Tribe. The formula then distributes the remaining funds via the relative share of the funding the Tribe would receive from the IHBG formula. For more detail on the Tribal rebates program grant funds allocation formula, see Appendix A of this notice.

DOE requests feedback on its intended allocation formula for the Tribal rebates program.

III. Designation of Tribal Consortium and Third-Party Agents That Can Submit on Behalf of a Tribe

To assist Tribes in accessing rebates program grant funds, DOE intends to offer two alternative ways for Tribes to apply. First, a group of Tribes may form a Tribal consortium and submit a single application package. This consortium will consist of two or more Indian Tribes, as defined within IRA section 50122(d)(3), that have designated a single Indian Tribe to act on their behalf as lead Indian Tribe of the Tribal consortium. The lead Indian Tribe would be the awardee and would be responsible for meeting all grant requirements on behalf of the Tribal consortium.

Second, DOE intends to allow for an individual Tribe or a Tribal consortium to authorize a third-party agent to prepare its grant application, submit the application, and manage grant funds for a Tribal Home Electrification and Appliance Rebates program. Tribes may choose any organization to serve as a third-party agent, including existing affiliates such as Tribally Designated Housing Entities (TDHEs), Tribal utilities, and regional Tribal organizations, so long as that organization is properly authorized to act on the Tribe's behalf via a “Tribal Council Resolution” or “Head of Government Letter.”

If authorized by a Tribe or consortium, a third-party agent may draw funds from the Automated Standard Application for Payments (ASAP) system and deposit them into a designated bank account for a Tribe or a Tribal consortium as needed to pay for allowable costs. The third-party agent may also be allowed to submit the required reporting for the Indian Tribe or Tribal consortium pursuant to the award. However, only the Indian Tribe or the lead Indian Tribe of the Tribal consortium may be the awardee. The Indian Tribe and/or the lead Indian Tribe of the Tribal consortium, as applicable, will ultimately be responsible for satisfying all grant requirements. Additionally, the application must be submitted in the name of the Indian Tribe (or lead Indian Tribe if using a Tribal consortium) and use the Indian Tribe's (or lead Indian Tribe's) Unique Entity Identifier (UEI) in FedConnect.

A consortium application package or application package submitted by a third-party agent must include a “Tribal Council Resolution” or “Head of Government Letter” from each participating Indian Tribe designating the lead Indian Tribe of the Tribal consortium or third-party to act on its behalf and receive the funding allocated to that specific Tribe. The lead Indian Tribe in a Tribal consortium must also submit a “Tribal Council Resolution” or “Head of Government Letter” stating that it will apply for grant funding and administer the grant on behalf of all Tribes in the consortium; if the lead Tribe plans to work with a third-party agent, it must also identify the third-party agent's responsibilities within the “Tribal Council Resolution” or “Head of Government Letter”.

DOE requests feedback on the Tribal consortium process and use of third-party agents working on behalf of a Tribe.

Appendix A. Tribal Home Electrification and Appliance Rebates Program Allocation Formula

Ai = Total amount of funding allocated to Indian Tribe i

m = $150,000 (minimum funding each Indian Tribe must receive)

F = $218,250,000 (total amount of Tribal rebates program funding allocated to grants)

n = number of Indian Tribes receiving funding allocations ¹⁵

¹⁵ See Appendix B for details on small changes made to the list of Indian Tribes eligible for funding from this formula compared to the list of Tribes included in the HUD FY2023 IHBG Summary Allocations spreadsheet.

Ei = The tribe's “Unadjusted FY 2023 Allocation” from the IHBG allocation ¹⁶

¹⁶ See Appendix B for details on the slight adjustments made to the HUD FY2023 IHBG Summary Allocations spreadsheet, which is the source of this datapoint for each Tribe.

∑Ei = The sum of all tribes' “Unadjusted FY 2023 Allocation” numbers from the IHBG allocations

Appendix B. Data Used in the Tribal Rebates Program Allocation Formula

The formula included in Appendix A uses data from a slightly modified version of the “FY_2023_Final_Summary_Sheets” excel document made available by the HUD Indian Housing Block Grant (IHBG) program.¹⁷ In consultation with HUD, DOE made the following changes to the original excel document:

¹⁷ The summary spreadsheet of the HUD FY2023 IHBG allocations can be viewed at the following link: https://view.officeapps.live.com/op/view.aspx?src=https%3A%2F%2Fwww.hud.gov%2Fsites%2Fdfiles%2FPIH%2Fdocuments%2FFY_2023_Final_Summary_Sheets.xlsx&wdOrigin=BROWSELINK.

1. DOE removed state-recognized Tribes that receive IHBG allocation under the Native American Housing Assistance and Self-Determination Act of 1996 (NAHASDA) ¹⁸ but that are not eligible to receive allocations under IRA section 50122. These five Tribes are the Coharie Tribe, the Haliwa-Saponi Indian Tribe, the Lumbee Tribe of North Carolina, the MOWA Band of Choctaw Indians, and the Waacamaw Siouan Tribe.

¹⁸ The NAHASDA is available at https://www.congress.gov/104/plaws/publ330/PLAW-104publ330.pdf.

2. DOE asked HUD to calculate the FY2023 allocation that the Chicken Ranch Rancheria of Me-Wuk Indians of California would have received had they accepted IHBG funding. This allocation was then used as the basis of calculating the Tribal rebates program grant funds to be allocated to the Chicken Ranch Rancheria of Me-Wuk Indians of California Tribe.

3. HUD informed DOE that the Arctic Slope Regional Corporation received the Inupiat Community of the Arctic Slope (ICAS) regional Tribe did not receive its FY2023 IHBG allocation but intends to be the recipient of its IHBG funding in FY2024. DOE asked HUD to switch the FY2023 allocation from the Arctic Slope Regional Corporation to ICAS. This follows the IHBG formula regulations for Tribes in Alaska, which assigns the data for the “Need” factor first to the Alaska Native Village, then the regional Tribe, and then to the Alaska Native Regional Corporation.¹⁹

¹⁹ The HUD regulations for the “Need” component of the IHBG formula for Alaska Native Villages, Native Village Corporations, Regional Tribes, and Native Regional Corporations is 24 CFR 1000.327, available at www.ecfr.gov/current/title-24/subtitle-B/chapter-IX/part-1000/subpart-D/section-1000.327.

After completing these changes to the “FY_2023_Final_Summary_Sheets” excel document with HUD assistance, DOE used the revised document as the basis for the data inputs for the formula included in Appendix A:

• n = 591, which is the number of Tribes included in the revised IHBG FY2023 allocations spreadsheet.

• Ei = The Tribe's “Unadjusted FY 2023 Allocation” in Column T of the revised spreadsheet.

• ∑Ei = The sum of all Tribes' “Unadjusted FY 2023 Allocation” numbers in Column T of the revised spreadsheet.

The HUD Regulations that govern the collection of data and calculations using that data to create the “Unadjusted FY 2023 Allocation” numbers found within Column T of the revised spreadsheet under 24 CFR 1000.301, available at www.ecfr.gov/current/title-24/subtitle-B/chapter-IX/part-1000/subpart-D/.

Additional information and data related to the IHBG formula is available at www.hud.gov/program_offices/public_indian_housing/ih/codetalk/onap/ihbgformula.

Appendix C. List of Intended Formula Allocations for the Tribal Rebates Program

While the data components used to calculate the intended formula allocations for the Tribal Rebates Program are from IHBG FY 2023 data, DOE updated the Tribal names included in the following table to match the Tribal names that HUD updated and published on the FY 2024 estimates on June 1, 2023.²⁰ States are listed to assist with potential coordination of rebate programs between Tribes and State Energy Offices. However, all Tribal Rebates program allocations will be made directly to Tribes.

²⁰ The FY2024 estimated IHBG allocations that uses the updated list of Tribal names is available at https://view.officeapps.live.com/op/view.aspx?src=https%3A%2F%2Fwww.hud.gov%2Fsites%2Fdfiles%2FPIH%2Fdocuments%2FFY_2024_Estimate_Allocation_Sheets.xlsx&wdOrigin=BROWSELINK.

State | Tribe | Allocation
OK | Absentee-Shawnee Tribe | $735,103
NM | Acoma Pueblo | 343,645
AK | Afognak | 156,621
AK | Agdaagux Tribe of King Cove | 176,859
CA | Agua Caliente Band of Cahuilla Indians | 176,929
AK | AHTNA, Incorporated | 463,566
AZ | Ak-Chin Indian Community | 248,214
AK | Akhiok | 150,147
AK | Akiachak | 229,218
AK | Akiak | 193,948
AK | Akutan | 151,449
TX | Alabama-Coushatta Tribe of Texas | 169,280
OK | Alabama-Quassarte Tribal Town | 173,013
AK | Alakanuk | 240,628
AK | Alatna | 150,147
AK | Aleknagik | 158,737
AK | Aleut Corporation | 440,822
AK | Algaaciq (St. Mary's) | 218,930
AK | Allakaket | 187,417
CA | Alturas Indian Rancheria | 150,147
AK | Alutiiq (Old Harbor) | 165,909
AK | Ambler | 183,419
AK | Anaktuvuk Pass | 173,409
AK | Angoon | 162,139
AK | Aniak | 194,462
AK | Anvik | 159,273
OK | Apache Tribe | 335,887
AK | Arctic Village | 179,374
AK | Asa'Carsarmiut Tribe (Mountain Village) | 252,076
MT | Assiniboine & Sioux Tribes of Ft. Peck | 1,068,123
AK | Atka | 150,147
AK | Atmauthluak | 183,153
AK | Atqasuk (Atkasook) | 155,937
CA | Augustine Band of Cahuilla Indians | 150,147
WI | Bad River Band of the Lake Superior Tribe of Chippewa | 452,016
AK | Barrow Inupiat Traditional Government | 508,214
MI | Bay Mills Indian Community | 290,230
CA | Bear River Band of the Rohnerville Rancheria | 150,147
AK | Beaver | 156,524
AK | Belkofski | 150,147
AK | Bering Straits Native Corporation | 370,925
CA | Berry Creek Rancheria of Maidu Indians | 250,532
CA | Big Lagoon Rancheria | 150,147
CA | Big Pine Paiute Tribe of the Owens Valley | 211,803
CA | Big Sandy Rancheria of Western Mono Indians | 198,943
CA | Big Valley Band of Pomo Indians | 254,872
AK | Bill Moore's Slough | 150,147
AK | Birch Creek | 150,147
CA | Bishop Paiute Tribe | 367,598
MT | Blackfeet Tribe | 1,433,051
CA | Blue Lake Rancheria | 150,147
MN | Bois Forte Band, Minnesota Chippewa Tribe | 329,048
AK | Brevig Mission | 197,069
CA | Bridgeport Indian Colony | 176,839
AK | Bristol Bay Native Corporation | 394,605
AK | Buckland | 202,969
CA | Buena Vista Rancheria of Me-Wuk Indians | 150,147
OR | Burns Paiute Tribe | 182,688
CA | Cabazon Band of Mission Indians | 150,147
CA | Cachil DeHe Band of Wintun Indians, Colusa Rancheria | 150,147
OK | Caddo Nation | 266,778
CA | Cahto Tribe of the Laytonville Rancheria | 219,302
CA | Cahuilla Band of Indians | 150,147
CA | California Valley Miwok Tribe | 150,147
AK | Calista Corporation | 816,006
CA | Campo Band of Diegueno Mission Indians | 253,980
AK | Cantwell | 150,147
CA | Capitan Grande Band of Diegueno Mission Indians | 169,870
SC | Catawba Indian Nation | 493,421
NY | Cayuga Nation | 205,532
CA | Cedarville Rancheria | 150,147
AK | Chalkyitsik | 168,759
AK | Cheesh-Na | 150,147
AK | Chefornak | 206,280
CA | Chemehuevi Indian Tribe | 296,843
AK | Chenega (Chanega) | 150,147
CA | Cher-Ae Heights Indian Community (Trinidad Rancheria) | 150,155
OK | Cherokee Nation | 6,489,212
AK | Chevak | 275,983
OK | Cheyenne and Arapaho Tribes | 595,299
SD | Cheyenne River Sioux | 1,201,976
VA | Chickahominy Indian Tribe | 195,617
VA | Chickahominy Indian Tribe-Eastern Division | 150,606
AK | Chickaloon | 164,514
OK | Chickasaw Nation | 2,520,908
CA | Chicken Ranch Rancheria of Me-Wuk Indians | 150,147
AK | Chignik Bay Tribal Council | 150,147
AK | Chignik Lagoon | 150,147
AK | Chignik Lake | 150,147
AK | Chilkat (Klukwan) | 150,147
AK | Chilkoot (Haines) | 153,719
AK | Chinik (Golovin) | 163,788
MT | Chippewa Cree Indians of the Rocky Boy's Reservation | 642,286
LA | Chitimacha Tribe | 167,176
AK | Chitina | 150,147
OK | Choctaw Nation | 2,451,562
AK | Chuathbaluk (Russian Mission, Kuskokwim) | 153,606
AK | Chugach Alaska Corporation | 611,511
AK | Chuloonawick | 150,147
AK | Circle | 155,282
OK | Citizen Potawatomi Nation | 716,072
AK | Clarks Point | 150,147
CA | Cloverdale Rancheria of Pomo Indians | 198,261
NM | Cochiti Pueblo | 192,865
AZ | Cocopah Tribe | 320,614
ID | Coeur D'Alene Tribe | 338,414
CA | Cold Springs Rancheria of Mono Indians | 219,621
AZ | Colorado River Indian Tribes | 651,565
OK | Comanche Nation | 644,586
MT | Confederated Salish and Kootenai Tribes | 1,132,555
WA | Confederated Tribes and Bands of the Yakama Nation | 1,359,390
OR | Confederated Tribes of Siletz Indians | 1,048,085
WA | Confederated Tribes of the Chehalis Reservation | 357,665
WA | Confederated Tribes of the Colville Reservation | 1,424,873
OR | Confederated Tribes of the Coos, Lower Umpqua, and Siuslaw Indians | 358,967
UT | Confederated Tribes of the Goshute Reservation | 233,443
OR | Confederated Tribes of the Grand Ronde Community | 853,041
OR | Confederated Tribes of the Umatilla Indian Reservation | 529,179
OR | Confederated Tribes of the Warm Springs Reservation | 458,722
AK | Cook Inlet Region, Inc | 3,193,036
OR | Coquille Indian Tribe | 396,269
AK | Council | 150,147
LA | Coushatta Tribe | 150,147
OR | Cow Creek Band of Umpqua Tribe | 381,416
WA | Cowlitz Indian Tribe | 514,054
CA | Coyote Valley Band of Pomo Indians | 252,840
AK | Craig | 173,374
AK | Crooked Creek | 158,734
SD | Crow Creek Sioux Tribe | 462,133
MT | Crow Tribe | 741,631
AK | Curyung (Dillingham) | 278,419
AK | Deering | 159,079
OK | Delaware Nation (Western) | 157,890
OK | Delaware Tribe of Indians (Eastern) | 238,265
AK | Diomede (Inalik) | 167,022
AK | Dot Lake | 150,147
AK | Douglas | 216,213
AK | Doyon, Ltd | 1,254,404
CA | Dry Creek Rancheria Band of Pomo Indians | 314,934
NV | Duck Valley Shoshone-Paiute Tribes | 606,641
NV | Duckwater Shoshone Tribe | 238,553
AK | Eagle | 150,147
NC | Eastern Band of Cherokee Indians | 759,899
MO | Eastern Shawnee Tribe | 153,406
WY | Eastern Shoshone Tribe of the Wind River Reservation | 456,868
AK | Eek | 228,954
AK | Egegik | 150,147
AK | Eklutna | 150,119
AK | Ekuk | 150,147
AK | Ekwok | 151,724
CA | Elem Indian Colony of Pomo Indians (Sulphur Bank Rancheria) | 155,421
AK | Elim | 197,456
CA | Elk Valley Rancheria | 150,147
NV | Ely Shoshone Tribe | 281,431
AK | Emmonak | 230,911
CA | Enterprise Rancheria of Maidu Indians | 269,631
AK | Evansville (Bettles Field) | 150,147
CA | Ewiiaapaayp Band of Kumeyaay Indians | 150,147
AK | Eyak | 163,398
NV | Fallon Paiute-Shoshone Tribe | 454,550
AK | False Pass | 150,147
SD | Flandreau Santee Sioux Tribe | 225,675
MN | Fond Du Lac Band, Minnesota Chippewa Tribe | 971,518
WI | Forest County Potawatomi Community | 210,225
MT | Fort Belknap Indian Community | 552,541
CA | Fort Bidwell Indian Community | 235,617
CA | Fort Independence Indian Community of Paiute Indians | 156,591
NV | Fort McDermitt Paiute and Shoshone Tribes | 274,535
AZ | Fort McDowell Yavapai Nation | 180,413
CA | Fort Mojave Indian Tribe | 441,202
OK | Fort Sill Apache Tribe | 157,148
AK | Fort Yukon | 219,957
AK | Gakona | 150,147
AK | Galena (Louden Village) | 179,973
AK | Gambell | 252,459
AK | Georgetown | 150,147
AZ | Gila River Indian Community | 1,718,043
AK | Goodnews Bay | 164,872
MN | Grand Portage Band, Minnesota Chippewa Tribe | 210,246
MI | Grand Traverse Band of Ottawa and Chippewa Indians | 429,210
CA | Graton Rancheria Federated Indians | 319,552
AK | Grayling (Hokikachuk) | 180,893
CA | Greenville Rancheria | 167,645
CA | Grindstone Rancheria of Wintun-Wailaki Indians | 225,874
CA | Guidiville Rancheria | 182,718
AK | Gulkana | 150,118
CA | Habematolel Pomo of Upper Lake | 179,031
AK | Hamilton | 150,147
MI | Hannahville Indian Community | 185,496
AZ | Havasupai Tribe | 158,998
AK | Healy Lake | 150,147
WI | Ho-Chunk Nation | 1,005,433
WA | Hoh Indian Tribe | 168,840
AK | Holy Cross | 173,698
AK | Hoonah | 174,884
CA | Hoopa Valley Tribe | 446,251
AK | Hooper Bay | 299,004
AZ | Hopi Tribe | 1,723,928
CA | Hopland Band of Pomo Indians | 307,850
ME | Houlton Band of Maliseet Indians | 258,504
AZ | Hualapai Indian Tribe | 458,027
AK | Hughes | 156,407
AK | Huslia | 189,808
AK | Hydaburg | 162,095
AK | Igiugig | 150,147
CA | Iipay Nation of Santa Ysabel | 153,696
AK | Iliamna | 150,147
CA | Inaja Band of Diegueno Mission Indians | 150,147
AK | Inupiat Community of the Arctic Slope | 636,168
CA | Ione Band of Miwok Indians | 213,808
KS | Iowa Tribe of Kansas and Nebraska | 228,709
OK | Iowa Tribe of Oklahoma | 159,704
AK | Iqugmiut Traditional Council (Iqurmuit) | 164,445
NM | Isleta Pueblo | 346,034
AK | Ivanof Bay | 150,147
CA | Jackson Band of Miwuk Indians | 150,147
WA | Jamestown S'Klallam Tribe | 214,200
CA | Jamul Indian Village | 150,147
NM | Jemez Pueblo | 253,169
LA | Jena Band of Choctaw Indians | 150,147
NM | Jicarilla Apache Nation | 385,038
AK | Kaguyak | 150,147
AZ | Kaibab Band of Paiute Indians | 225,524
AK | Kake | 170,327
AK | Kaktovik | 161,665
WA | Kalispel Indian Community | 204,963
AK | Kalskag | 177,783
AK | Kaltag | 160,253
AK | Kanatak | 150,147
AK | Karluk | 150,147
CA | Karuk Tribe | 984,218
AK | Kasaan | 150,147
CA | Kashia Band of Pomo Indians, Stewarts Point Rancheria | 290,500
AK | Kasigluk | 209,298
OK | Kaw Nation | 292,410
AK | Kenaitze | 403,026
AK | Ketchikan | 350,849
MI | Keweenaw Bay Indian Community | 522,062
OK | Kialegee Tribal Town | 190,567
AK | Kiana | 174,743
TX | Kickapoo Traditional Tribe of Texas | 178,142
KS | Kickapoo Tribe of Kansas | 297,606
OK | Kickapoo Tribe of Oklahoma | 242,090
AK | King Island | 193,760
AK | King Salmon | 151,059
OK | Kiowa Indian Tribe | 400,643
AK | Kipnuk | 265,729
AK | Kivalina | 221,466
OR | Klamath Tribes | 886,618
AK | Klawock | 161,338
CA | Kletsel Dehe Wintun Nation of the Cortina Rancheria | 159,288
AK | Kluti Kaah (Copper Center) | 150,000
AK | Knik | 430,655
AK | Kobuk | 156,619
CA | Koi Nation of Northern California (Lower Lake) | 150,147
AK | Kokhanok | 165,042
AK | Kongiganak | 207,079
AK | Koniag, Incorporated | 866,019
ID | Kootenai Tribe | 155,772
AK | Kotlik | 241,676
AK | Kotzebue | 378,657
AK | Koyuk | 179,205
AK | Koyukuk | 164,751
AK | Kwethluk | 233,817
AK | Kwigillingok | 185,873
AK | Kwinhagak (Quinhagak) | 243,947
CA | La Jolla Band of Luiseno Indians | 188,293
CA | La Posta Band of Diegueno Mission Indians | 150,147
WI | Lac Courte Oreilles Band of Lake Superior Chippewa | 782,707
WI | Lac Du Flambeau Band of Lake Superior Chippewa | 503,265
MI | Lac Vieux Desert Band of Lake Superior Chippewa Indians | 193,461
NM | Laguna Pueblo | 409,157
AK | Larsen Bay | 150,147
NV | Las Vegas Tribe of Paiute Indians | 150,147
MN | Leech Lake Band, Minnesota Chippewa Tribe | 1,013,163
AK | Levelock | 156,582
AK | Lime Village | 150,147
MI | Little River Band of Ottawa Indians | 203,452
MT | Little Shell Tribe of Chippewa Indians | 703,094
MI | Little Traverse Bay Band of Odawa Indians | 292,627
CA | Lone Pine Paiute-Shoshone Tribe | 194,877
CA | Los Coyotes Band of Cahuilla and Cupeno Indians | 150,147
NV | Lovelock Paiute Tribe | 175,626
SD | Lower Brule Sioux Tribe | 410,837
WA | Lower Elwha Tribal Community | 269,914
AK | Lower Kalskag | 192,677
MN | Lower Sioux Indian Community | 187,778
WA | Lummi Tribe | 891,738
CA | Lytton Rancheria of California | 176,378
WA | Makah Indian Tribe | 311,253
CA | Manchester Band of Pomo Indians | 349,561
AK | Manley Hot Springs | 150,147
AK | Manokotak | 229,634
CA | Manzanita Band of Diegueno Mission Indians | 150,147
AK | Marshall (Fortuna Ledge) | 186,548
AK | Mary's Igloo | 150,147
CT | Mashantucket Pequot Indian Tribe | 150,147
MA | Mashpee Wampanoag Tribe | 352,476
MI | Match-e-be-nash-she-wish Band of Pottawatomi Indians | 178,601
AK | McGrath | 159,061
CA | Mechoopda Indian Tribe of Chico Rancheria | 225,101
AK | Mekoryuk | 177,210
WI | Menominee Indian Tribe | 687,663
AK | Mentasta | 160,874
CA | Mesa Grande Band of Diegueno Mission Indians | 193,801
NM | Mescalero Apache Tribe | 573,991
AK | Metlakatla (Annette Island) | 399,219
OK | Miami Tribe | 152,756
FL | Miccosukee Tribe | 150,147
CA | Middletown Rancheria of Pomo Indians | 169,529
ME | Mi'Kmaq Nation (Aroostook) | 308,077
MN | Mille Lacs Band, Minnesota Chippewa Tribe | 438,763
AK | Minto | 174,002
MS | Mississippi Band of Choctaw Indians | 868,318
NV | Moapa Band of Paiute Indians | 221,921
OK | Modoc Tribe | 166,583
CT | Mohegan Tribe of Indians of Connecticut | 150,147
VA | Monacan Indian Nation | 221,778
CA | Mooretown Rancheria of Maidu Indians | 331,989
CA | Morongo Band of Mission Indians | 201,017
WA | Muckleshoot Indian Tribe | 430,708
OK | Muscogee (Creek) Nation | 3,793,027
AK | Naknek | 155,221
NM | Nambe Pueblo | 196,173
AK | NANA Corporation | 600,244
VA | Nansemond Indian Tribe | 171,986
AK | Nanwelek (English Bay) | 156,194
AK | Napaimute | 150,147
AK | Napakiak | 213,210
AK | Napaskiak | 196,958
RI | Narragansett Indian Tribe | 234,440
AZ | Navajo Nation | 16,494,460
AK | Nelson Lagoon | 150,147
AK | Nenana | 161,731
AK | New Koliganek | 162,260
AK | New Stuyahok | 211,925
AK | Newhalen | 151,375
AK | Newtok | 197,733
ID | Nez Perce Tribe | 407,903
AK | Nightmute | 173,520
AK | Nikolai | 155,326
AK | Nikolski | 150,147
AK | Ninilchik | 242,402
WA | Nisqually Indian Tribe | 271,034
AK | Noatak | 190,010
AK | Nome Eskimo Community | 354,590
AK | Nondalton | 150,147
WA | Nooksack Indian Tribe | 323,427
AK | Noorvik | 207,974
WY | Northern Arapaho Tribe of the Wind River Reservation | 619,186
MT | Northern Cheyenne Tribe | 699,715
CA | Northfork Rancheria of Mono Indians | 397,522
AK | Northway | 169,445
UT | Northwestern Band of the Shoshone Nation | 186,149
MI | Nottawaseppi Huron Band of Potawatomi | 250,771
AK | Nuiqsut (Nooiksut) | 181,025
AK | Nulato | 173,660
AK | Nunakauyarmiut (Toksook Bay) | 219,391
AK | Nunam Iqua (Sheldon's Point) | 162,930
AK | Nunapitchuk | 226,523
SD | Oglala Sioux Tribe | 2,450,321
NM | Ohkay Owingeh (San Juan Pueblo) | 274,032
AK | Ohogamiut | 150,147
NE | Omaha Tribe | 461,351
NY | Oneida Indian Nation of New York | 295,488
WI | Oneida Nation, Wisconsin | 1,104,088
NY | Onondaga Nation | 150,147
AK | Orutsararmuit (Bethel) | 585,262
OK | Osage Nation | 448,649
AK | Oscarville | 150,147
OK | Otoe-Missouria Tribe | 204,799
OK | Ottawa Tribe | 203,458
AK | Ouzinkie | 151,651
AK | Paimiut | 150,147
UT | Paiute Indian Tribe of Utah | 484,458
CA | Pala Band of Mission Indians | 234,191
VA | Pamunkey Indian Tribe | 150,147
AZ | Pascua Yaqui Tribe | 1,164,013
CA | Paskenta Band of Nomlaki Indians | 200,364
ME | Passamaquoddy Tribe | 310,985
AK | Pauloff Harbor Village | 150,147
CA | Pauma Band of Luiseno Mission Indians | 150,569
OK | Pawnee Nation | 261,466
CA | Pechanga Band of Indians | 154,073
AK | Pedro Bay | 150,147
ME | Penobscot Nation | 416,658
OK | Peoria Tribe | 408,645
AK | Perryville | 152,571
AK | Petersburg | 164,006
CA | Picayune Rancheria of Chukchansi Indians | 364,650
NM | Picuris Pueblo | 155,867
AK | Pilot Point | 150,147
AK | Pilot Station | 218,145
CA | Pinoleville Pomo Nation | 188,740
CA | Pit River Tribe | 423,574
AK | Pitka's Point | 159,624
AK | Platinum | 150,114
ME | Pleasant Point | 287,593
AL | Poarch Band of Creeks | 416,301
AK | Point Hope | 204,412
AK | Point Lay | 172,190
NM | Pojoaque Pueblo | 161,798
MI | Pokagon Band of Potawatomi Indians | 762,067
OK | Ponca Tribe of Indians of Oklahoma | 310,988
NE | Ponca Tribe of Nebraska | 642,855
WA | Port Gamble S'Klallam Tribe | 359,207
AK | Port Graham | 155,150
AK | Port Heiden | 150,147
AK | Port Lions | 150,147
AK | Portage Creek | 150,147
CA | Potter Valley Tribe | 150,147
KS | Prairie Band Potawatomi Nation | 198,302
MN | Prairie Island Indian Community | 150,147
WA | Puyallup Tribe | 911,893
NV | Pyramid Lake Paiute Tribe | 503,408
AK | Qagan Tayagungin (Sand Point) | 185,543
AK | Qawalangin (Unalaska) | 157,765
OK | Quapaw Tribe | 180,793
CA | Quartz Valley Indian Community | 240,027
AZ | Quechan Tribe | 440,597
WA | Quileute Tribe | 250,740
WA | Quinault Indian Nation | 586,321
CA | Ramona Band of Cahuilla | 150,147
AK | Rampart | 151,067
VA | Rappahannock Tribe, Inc | 153,217
WI | Red Cliff Band of Lake Superior Chippewa | 375,294
AK | Red Devil | 150,147
MN | Red Lake Band of Chippewa Indians | 945,181
CA | Redding Rancheria | 178,860
CA | Redwood Valley Rancheria | 190,780
NV | Reno-Sparks Indian Colony | 429,378
CA | Resighini Rancheria | 150,147
CA | Rincon Band of Luiseno Mission Indians | 199,419
CA | Robinson Rancheria | 217,750
SD | Rosebud Sioux Tribe | 1,658,047
CA | Round Valley Indian Tribes | 897,335
AK | Ruby | 179,514
IA | Sac & Fox Tribe of the Mississippi, IA | 197,241
KS | Sac and Fox Nation of Missouri | 180,929
OK | Sac and Fox Nation, Oklahoma | 455,270
MI | Saginaw Chippewa Indian Tribe | 437,586
AK | Saint George Island | 150,147
AK | Saint Michael | 216,459
AK | Saint Paul Island | 166,895
NY | Saint Regis Mohawk Tribe | 441,321
AK | Salamatof | 151,650
AZ | Salt River Pima-Maricopa Indian Community | 669,857
WA | Samish Indian Nation | 400,258
AZ | San Carlos Apache Tribe | 1,417,171
NM | San Felipe Pueblo | 247,121
NM | San Ildefonso Pueblo | 197,744
AZ | San Juan Southern Paiute Tribe | 163,770
CA | San Pasqual Band of Diegueno Mission Indians | 196,514
NM | Sandia Pueblo | 176,721
NM | Santa Ana Pueblo | 184,365
NM | Santa Clara Pueblo | 279,204
CA | Santa Rosa Band of Cahuilla Indians | 150,147
CA | Santa Rosa Indian Community | 243,462
CA | Santa Ynez Band of Chumash Mission Indians | 184,019
NE | Santee Sioux Nation | 312,801
NM | Santo Domingo Pueblo | 311,742
WA | Sauk-Suiattle Indian Tribe | 240,655
MI | Sault Ste. Marie Tribe of Chippewa Indians | 1,199,867
AK | Savoonga | 292,683
AK | Saxman | 161,123
AK | Scammon Bay | 226,581
CA | Scotts Valley Band of Pomo Indians | 174,414
AK | Selawik | 256,701
AK | Seldovia | 150,147
OK | Seminole Nation | 499,035
FL | Seminole Tribe of Florida | 310,795
NY | Seneca Nation of New York | 643,131
OK | Seneca-Cayuga Nation | 174,702
AK | Shageluk | 161,249
MN | Shakopee Mdewakanton Sioux Community | 171,967
AK | Shaktoolik | 172,073
OK | Shawnee Tribe | 150,147
CA | Sherwood Valley Rancheria of Pomo Indians | 252,257
CA | Shingle Springs Band of Miwok Indians | 188,922
NY | Shinnecock Indian Nation | 153,757
AK | Shishmaref | 238,944
WA | Shoalwater Bay Indian Tribe | 187,901
ID | Shoshone-Bannock Tribes, Ft. Hall Reservation | 446,127
AK | Shungnak | 172,318
SD | Sisseton-Wahpeton Oyate | 881,398
AK | Sitka Tribe (Baranof Island) | 408,917
AK | Skagway | 151,020
WA | Skokomish Indian Tribe | 266,877
UT | Skull Valley Band of Goshute Indians | 150,147
AK | Sleetmute | 155,353
WA | Snoqualmie Indian Tribe | 202,607
CA | Soboba Band of Luiseno Indians | 194,268
WI | Sokaogon Chippewa Community | 317,192
AK | Solomon | 150,147
AK | South Naknek | 150,147
CO | Southern Ute Indian Tribe | 408,002
ND | Spirit Lake Tribe | 715,203
WA | Spokane Tribe | 663,069
WA | Squaxin Island Tribe | 327,613
WI | St. Croix Chippewa Indians | 428,383
ND | Standing Rock Sioux Tribe | 1,257,983
AK | Stebbins Community Association | 237,840
AK | Stevens Village | 150,147
WA | Stillaguamish Tribe | 187,334
WI | Stockbridge-Munsee Community | 233,473
AK | Stony River | 150,147
NV | Summit Lake Paiute Tribe | 150,147
AK | Sun'aq Tribe of Kodiak (Shoonaq') | 221,514
WA | Suquamish Indian Tribe | 334,754
CA | Susanville Indian Rancheria | 299,971
WA | Swinomish Indian Tribal Community | 383,295
CA | Sycuan Band of Kumeyaay Nation | 150,147
CA | Table Mountain Rancheria | 150,147
AK | Takotna | 150,147
AK | Tanacross | 157,472
AK | Tanana | 177,226
AK | Tangirnaq (Lesnoi) | 150,147
NM | Taos Pueblo | 223,153
AK | Tatitlek | 150,147
AK | Tazlina | 150,147
CA | Tejon Indian Tribe | 150,147
AK | Telida | 150,147
AK | Teller | 178,153
NV | Te-Moak Tribe of Western Shoshone Indians | 382,149
NM | Tesuque Pueblo | 160,492
AK | Tetlin | 165,753
OK | Thlopthlocco Tribal Town | 197,627
ND | Three Affiliated Tribes of Fort Berthold | 840,237
CA | Timbisha Shoshone Tribe (Death Valley) | 165,495
AK | Tlingit and Haida Indian Tribes Central Council | 1,122,121
AK | Togiak | 231,335
AZ | Tohono O'odham Nation | 3,029,950
CA | Tolowa Dee-ni' Nation (Smith River Rancheria) | 359,727
NY | Tonawanda Band of Seneca | 150,147
OK | Tonkawa Tribe | 239,692
AZ | Tonto Apache Tribe of Arizona | 150,147
CA | Torres-Martinez Desert Cahuilla Indians | 177,629
WA | Tulalip Tribes | 824,467
CA | Tule River Indian Tribe | 471,504
AK | Tuluksak | 206,706
LA | Tunica-Biloxi Tribe | 231,339
AK | Tuntutuliak | 251,666
AK | Tununak | 190,668
CA | Tuolumne Band of Me-Wuk Indians | 214,943
ND | Turtle Mountain Band of Chippewa Indians | 1,590,715
NY | Tuscarora Nation | 150,147
CA | Twenty-Nine Palms Band of Mission Indians | 150,147
AK | Twin Hills | 157,700
AK | Tyonek | 181,678
AK | Ugashik | 150,147
AK | Umkumiut | 150,147
AK | Unalakleet | 191,280
AK | Unga | 150,147
CA | United Auburn Indian Community | 179,384
OK | United Keetoowah Band of Cherokee Indians | 421,409
VA | Upper Mattaponi Tribe | 177,339
MN | Upper Sioux Community | 193,837
WA | Upper Skagit Tribe | 418,390
UT | Ute Indian Tribe of the Uintah & Ouray Reservation | 460,479
CO | Ute Mountain Ute Tribe | 437,798
CA | Utu Utu Gwaiti Paiute Tribe | 150,147
AK | Venetie | 174,797
CA | Viejas Group of Capitan Grande Band | 171,756
AK | Wainwright | 202,468
AK | Wales | 184,835
NV | Walker River Paiute Tribe | 637,169
MA | Wampanoag Tribe of Gay Head (Aquinnah) | 218,538
NV | Washoe Tribe | 464,204
MN | White Earth Band, Minnesota Chippewa Tribe | 796,991
AK | White Mountain | 170,835
AZ | White Mountain Apache (Fort Apache) | 1,845,814
OK | Wichita and Affiliated Tribes | 226,465
CA | Wilton Rancheria | 255,758
NE | Winnebago Tribe | 433,218
NV | Winnemucca Indian Colony | 150,147
CA | Wiyot Tribe (Table Bluff) | 150,147
AK | Wrangell | 174,561
OK | Wyandotte Nation | 257,115
AK | Yakutat Tlingit Tribe | 158,159
SD | Yankton Sioux Tribe | 551,918
AZ | Yavapai-Apache Nation (Camp Verde) | 327,173
AZ | Yavapai-Prescott Indian Tribe | 150,147
NV | Yerington Paiute Tribe | 316,605
CA | Yocha Dehe Wintun Nation (Rumsey Rancheria) | 150,147
NV | Yomba Shoshone Tribe | 204,468
TX | Ysleta Del Sur Pueblo | 601,545
CA | Yuhaaviatam of San Manuel Nation (San Manuel) | 150,147
AK | Yupiit of Andreafski | 158,077
CA | Yurok Tribe | 1,152,502
NM | Zia Pueblo | 195,243
NM | Zuni Tribe | 701,430

Signing Authority

This document of the Department of Energy was signed on August 10, 2023, by Dr. Henry McKoy, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 11, 2023.
Treena V. Garrett,
Federal Register Liaison Officer, U.S. Department of Energy.

[FR Doc. 2023-17571 Filed 8-15-23; 8:45 am]

BILLING CODE 6450-01-P